DEPARTMENT OF ENERGY

Federal Energy Regulatory Commission

Public Utility District No. 1 of Snohomish County, WA; Notice Granting Late Intervention

November 16, 2006.

On June 22, 2006, the Commission issued a notice of the application for preliminary permit filed by Public Utility District No. 1 of Snohomish County, Washington, for the Rich Passage Tidal Energy Project No. 12688, to be located in Rich Passage in Puget Sound, Kitsap County, Washington. The notice established August 21, 2006, as the deadline for filing motions to intervene.

On October 20, 2006, Kitsap County, Washington, filed a late motion to intervene in the proceeding. Granting the motion to intervene will not unduly delay or disrupt the proceeding, or prejudice other parties to it. Therefore, pursuant to Rule 214,¹ the motion to intervene filed by Kitsap County, Washington, is granted, subject to the Commission's rules and regulations.

¹ 18 CFR 385.214 (2006).

Magalie R. Salas,
Secretary.

[FR Doc. E6-19922 Filed 11-24-06; 8:45 am]

BILLING CODE 6717-01-P